SECURITIES AND EXCHANGE COMMISSION

[Release No. 34-83080; File No. SR-Phlx-2018-31]

Self-Regulatory Organizations; Nasdaq PHLX LLC; Notice of Filing and Immediate Effectiveness of Proposed Rule Change To Amend the Exchange's Pricing Schedule at Section II To Clarify Fees Applicable To Correcting “As/of” or “Reversal” Trades

April 20, 2018.

Correction

In notice document 2018-08729, beginning on page 18630 in the issue of Thursday, April 26, 2018, make the following correction:

On page 18630, in the middle column, in the document heading, “[Release No. 34-83080; File No. SR-18-31]” should read “[Release No. 34-83080; File No. SR-Phlx-2018-31]”.

[FR Doc. C1-2018-08729 Filed 5-16-18; 8:45 am]

BILLING CODE 1301-00-D